ENVIRONMENTAL PROTECTION AGENCY

40 CFR Part 300

[FRL-8331-2]

National Oil and Hazardous Substances Pollution Contingency Plan; National Priorities List

AGENCY: Environmental Protection Agency (EPA).

ACTION: Notice of Intent to Delete the Grand Street Mercury Superfund Site from the National Priorities List.

SUMMARY: The Environmental Protection Agency (EPA), Region 2, is issuing a Notice of Intent to Delete the Grand Street Mercury Superfund Site (Site) from the National Priorities List (NPL) and requests public comment on this action. The Grand Street Mercury Site is located in the city of Hoboken, Hudson County, New Jersey. The NPL is Appendix B of the National Oil and Hazardous Substances Pollution Contingency Plan (NCP), 40 CFR part 300, which EPA promulgated pursuant to Section 105 of the Comprehensive Environmental Response, Compensation, and Liability Act of 1980 (CERCLA), as amended. EPA and the State of New Jersey, through the Department of Environmental Protection (NJDEP), have determined that all appropriate remedial actions have been completed and no further remedial actions are required.

In addition, EPA and NJDEP have determined that the cleanup goals attained at this Site are protective of public health and the environment.

DATES: Comments concerning the deletion of this site from the NPL must be received July 30, 2007.

ADDRESSES: Submit your comments, identified by Docket ID no. EPA-HQ-SFUND-1997-0001, by one of the following methods: http://www.regulations.gov. Follow on-line instructions for submitting comments.

E-mail: saghafi.farnaz@epa.gov.

Fax: 212-637-4429.

Mail: Ms. Farnaz Saghafi, Remedial Project Manager, New Jersey Remediation Branch, Emergency and Remedial Response Division, U.S. Environmental Protection Agency, Region 2, 290 Broadway, 19th Floor, New York, New York, 10007-1866.

Hand delivery: 290 Broadway Street, 18th Floor, New York, New York 10007-1866. Such deliveries are only accepted during the Docket's normal hours of operation, and special arrangements should be made for deliveries of boxed information.

Instructions: Direct your comments to Docket ID no. EPA-HQ-SFUND-1997-0001. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going to http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statue. Certain other material, such as copyrighted material, will be publicly available only in the hard copy. Publicly available docket materials are available either electronically in http://www.regulations.gov or in hard copy at:

U.S. EPA Records Center, 290 Broadway—18th Floor, New York, New York 10007-1866. Hours: Monday through Friday, 9 a.m. to 5 p.m. Phone: 212-637-4308.

Hoboken Public Library, 500 Park Avenue, Hoboken, New Jersey 07030. Phone: 201-420-2280.

FOR FURTHER INFORMATION CONTACT: Farnaz Saghafi at (212) 637-4408.

SUPPLEMENTARY INFORMATION:

Table of Contents:

I. Introduction

II. NPL Deletion Criteria

III. Deletion Procedures

IV. Basis for Intended Site Deletion

I. Introduction

EPA Region 2 announces its intent to delete the Grand Street Mercury Superfund Site from the NPL and requests public comment on this action. EPA maintains the NPL as the list of sites that present a significant risk to public health or the environment. Sites on the NPL may be the subject of remedial actions financed by the Hazardous Substance Superfund (Fund).

EPA will accept comments on the proposal to delete this Site for thirty (30) days after publication of this document in the Federal Register. Section II below explains the criteria for deleting sites from the NPL. Section III discusses the procedures that EPA is using for this action. Section IV discusses how this Site meets NPL deletion criteria.

II. NPL Deletion Criteria

Section 300.425(e) of the NCP provides that sites may be deleted from the NPL where no further response is appropriate. In making this determination, EPA, in consultation with NJDEP, will consider whether any of the following criteria have been met:

(i) Responsible parties or other persons have implemented all appropriate response actions required; or

(ii) All appropriate Fund-financed responses under CERCLA have been implemented, and no further response action by responsible parties is appropriate; or

(iii) The remedial investigation has shown that the release of hazardous substances poses no significant threat to public health or to the environment and, therefore, taking of remedial measures is not appropriate.

III. Deletion Procedures

The following procedures apply to the deletion of this Site:

(1) EPA issued a Record of Decision (ROD) on September 30, 1997, which called for: Relocation of the residents of the former industrial building at the Site; gross mercury decontamination and demolition of two buildings; excavation and off-site disposal of mercury-contaminated soils; sampling and assessment of soils at adjacent properties; sampling of groundwater at the Site; and assessment of soil data from the adjacent properties and groundwater data to evaluate the need for future remedial action. (2) All appropriate responses under CERCLA have been implemented as described in a Preliminary Close-Out Report dated September 2005. (3) EPA has recorded a notice with the County Clerk's office for Hudson County advising future owners of the former facility property located at 720-732 Grand Street, Hoboken, New Jersey that the environmental data collected at the Site exceed the screening level for mercury developed pursuant to EPA's Draft Guidance for Evaluating the Vapor Intrusion to Indoor Air Pathway from Groundwater and Soils, such that further evaluation and/or engineering controls may be necessary when and if structures are erected at the property. (4) The NJDEP concurs with the proposed deletion. (5) A notice has been published in the local newspaper and has been distributed to appropriate federal, state and local officials and other interested parties announcing a 30-day public comment period on EPA's Notice of Intent to Delete. (6) All relevant documents have been made available for public review at the local Site information repository and at EPA Region 2.

Deletion of sites from the NPL does not itself create, alter, or revoke any individual's rights or obligations. The NPL is designed primarily for informational purposes and to assist Agency management of Superfund sites. As mentioned in section II of this document, § 300.425(e)(3) of the NCP states that the deletion of a site from the NPL does not preclude eligibility for future response actions.

EPA's Regional Office will accept and evaluate public comments before making a final decision on deletion of this Site. If necessary, EPA will prepare a Responsiveness Summary to address significant public comments received during the public comment period. If after consideration of the comments received, EPA decides to proceed with the deletion, EPA will place a final Notice of Deletion in the Federal Register. Generally, the NPL will reflect deletions in the final update following the notice. Public notices and copies of the Responsiveness Summary will be made available to local residents by the Regional Office.

IV. Basis for Intended Site Deletion

The following summary provides the Agency's rationale for the proposal to delete this Site from the NPL.

Background

The Grand Street Mercury Site is located at 720 and 722-732 Grand Street, Hoboken, Hudson County, New Jersey. The Site included a former industrial building which was converted from 1993 to 1995 into 16 residential/studio spaces (722-732 Grand Street), a townhouse formerly used for various purposes which was also intended for residential conversion (720 Grand Street), and an adjacent asphalt-covered parking lot. Soils on five residential properties adjacent to the former industrial facility with mercury at levels greater than 23 mg/kg were also addressed as part of the remedial action.

Mercury, believed to be associated with the use of vacuum pumps containing mercury and the manufacture of mercury vapor lamps and mercury-containing switches, was prevalent throughout the buildings, which have been demolished as part of the remedial action, and the parking lot. Mercury vapor lamps and numerous other types of lamps requiring lesser amounts of and/or no mercury in the manufacturing process were manufactured at the facility from 1910 to approximately 1965.

Response Actions

On January 2, 1996, EPA received a request from NJDEP to conduct an emergency removal action under CERCLA, and to assist the Hoboken Health Department (HHD) in assessing the extent of mercury contamination at 720 and 722-732 Grand Street. EPA asked the Agency for Toxic Substances and Disease Registry (ATSDR) to evaluate the Site. On January 3, 1996, ATSDR issued a Public Health Consultation which concluded that an imminent health hazard existed at the Site, and that the residents should be dissociated from further exposure to this mercury hazard.

On January 4, 1996, the HHD, based on advice from the New Jersey Department of Health (NJDOH), issued an “Order of Health Officer”, which ordered the residents to vacate the buildings by January 9, 1996. All occupants had vacated the buildings by 4 p.m. on January 11, 1996.

On January 4, 1996, EPA authorized a Superfund removal action at the Site. The removal action included providing temporary relocation for residents of the Grand Street Site, providing for security and maintenance of the buildings, continued sampling and screening of the buildings as well as the personal possessions of the residents, and transportation, treatment, and/or disposal of contaminated materials generated during previous remediation efforts. The Site was officially added to the NPL on September 25, 1997.

In February 1997, EPA issued a Unilateral Administrative Order (UAO) to Potentially Responsible Parties (PRPs) General Electric Company (GE) and John Pascale, ordering them to take over temporary relocation, site security, building maintenance, and other activities from EPA. EPA subsequently modified the UAO to remove temporary relocation activities. GE initiated work at the Site on August 4, 1997.

In April 1997, EPA completed a Baseline Risk Assessment for the Site. A draft Focused Feasibility Study (FFS) that analyzed remedial alternatives for the Site was completed in July 1997. EPA issued a ROD for the Site on September 30, 1997.

Since the issuance of the ROD, EPA has acquired the former facility property located at 720-732 Grand Street and completed the permanent relocation of the residents. EPA issued a second UAO to GE on April 1, 1998 directing GE to perform the Remedial Design and Remedial Action described in the ROD, excluding relocation activities. GE prepared a Remedial Design (RD) Report for demolition of the two buildings formerly used for manufacturing operations, as well as excavation and removal of contaminated soil from the parking lot and from under the building slab. The demolition phase of the remedial action began in November 2001 and was completed by July 2003.

In March 2001, EPA approved GE's Supplemental Remedial Design Work Plan (SRDWP), concerning the soil sampling at adjacent residential properties required by the ROD. In May 2002, GE submitted to EPA the Supplemental Investigation Report, which describes the results of the SRDWP sampling as well as earlier soil sampling conducted at adjacent properties by EPA and GE.

Cleanup Goals

On April 17, 2003, EPA issued an Explanation of Significant Differences (ESD) setting forth its determination that soil in the backyards of the five residential properties must be addressed as part of the remedial action, requiring the excavation of soil from backyards even if only a single sample showed a concentration of mercury greater than 23 milligrams per kilogram (mg/kg), rather than using an average of all the samples collected at each depth. The basis for this determination is explained in the April 17, 2003 ESD.

By summer 2003, the contaminated industrial building and the attached townhouse had been demolished. During the subsequent removal of the buildings' basement slabs, EPA's oversight personnel and the PRP's consultant observed visible mercury in the underlying soil. Sampling showed that the soil was more contaminated than had been expected, and the contamination was present at depths below the water table.

The remediation goal for mercury in the surface soils, as described in the ROD, is 23 mg/kg and was developed to be protective of public health for both ingestion and inhalation exposure pathways for residential populations, including children. For subsurface soils, which at the Site are considered to be soils below the water table (located approximately 4.5 to 5.5 feet below ground surface), it is unlikely that residential populations would be exposed under typical, or reasonable, scenarios. The populations most likely to come into contact with these soils consist of utility workers and construction workers. Therefore, EPA determined that a distinct remediation goal for subsurface soils was needed to protect those specific populations. A remediation goal of 520 mg/kg of mercury was developed by EPA based on an assumed two-month duration of construction activity within subsurface soils. The addition of a remediation goal for subsurface soils was the subject of the second ESD for the Site issued on July 2, 2004.

The work necessary to achieve this remediation goal was performed in accordance with the approved Soil Removal Work Plan for Former Building Footprint, dated September 2003, prepared by GE. The activities associated with this work were conducted from September through December, 2004. Approximately 2 feet of soil were excavated in most areas below the former building footprint, and 6.5 feet were removed in three grids in this area. In the parking lot area, excavation depth varied from 0.5 to 5 feet depending on levels of mercury contamination detected during the investigation phase of the work. Post-excavation samples were collected every 30 feet throughout the excavation prior to backfilling the areas to ensure that the remaining soils met remediation goals.

An evaluation of the post-excavation sampling data shows that in only one grid in the subsurface soils there is an exceedence of the 520 mg/kg cleanup goal. The outlier data point is within a small grid (112.5 square feet in area) which was part of a larger grid (grid 1). That section was excavated down to 4.5-5 feet and the post-excavation sample was recorded at 676 mg/kg. The soil was further removed down to 6 feet where the meadow mat layer lies. This is a semi-confining layer which should not be punctured. Therefore, no further excavation or sampling at this layer was performed. Although the last data point in this grid has been recorded at 676 mg/kg, the number is not truly representative of what remains in that grid since more soil was removed after the sample was taken. Discounting this outlier data point from the data, the average mercury concentration in both saturated soils and unsaturated soils remaining at the site is 22.71 mg/kg.

The backfill material was sampled and certified to have no unacceptable levels of contamination or radioactivity before use. The backfilled soils met the New Jersey cleanup standards for unrestricted use. The PRP completed all work associated with this phase of cleanup by December 2004.

The soil removal work plan also included the installation of three additional groundwater monitoring wells in the vicinity of the former basement slabs. The new wells were sampled, in addition to the seven existing monitoring wells, in December 2004 to further evaluate groundwater conditions. Results showed that none of the monitoring wells contained mercury levels in the groundwater above 2 parts per billion (ppb), which is both the federal Maximum Contaminant Level (MCL) established pursuant to the federal Safe Drinking Water Act, and the New Jersey MCL established pursuant to the New Jersey Safe Drinking Water Act, and is the designated cleanup level for the Site.

During the soil removal activities, two of the groundwater monitoring wells located in the former parking lot had to be abandoned to enable the complete excavation of contaminated soils. It was determined that sufficient groundwater data would be obtained through the surrounding wells due to their close proximity. The remaining eight wells were sampled in a confirmatory round of groundwater sampling in June 2005. Results again showed that none of the of the monitoring wells contained mercury levels in the groundwater above 2 ppb, the applicable cleanup level for the Site. All related monitoring wells were sealed and abandoned in accordance with the state of New Jersey's “General Requirements for the Decommissioning of all Wells”, N.J.A.C. 7:9D-3.1 in October 2006.

EPA issued a third ESD on September 16, 2005 relating to the groundwater at the Site. The ESD describes EPA and NJDEP's determination that no remedial action with respect to the groundwater is necessary. This is due to the findings of the groundwater sampling performed at the Site. Two rounds of groundwater sampling, performed in December 2004 and in June 2005 as well as groundwater sampling performed in 2000 showed that none of the monitoring wells contained mercury levels in the groundwater above 2 parts per billion (ppb), which is both the MCL established pursuant to the federal Safe Drinking Water Act, and the New Jersey MCL established pursuant to the New Jersey Safe Drinking Water Act, and is therefore the designated cleanup level for the Site.

It should be noted that the site-specific mercury clean-up goals for soils established by EPA for the former facility property, which are protective of public health for both ingestion and inhalation exposure pathways, exceed the screening levels found in EPA's Draft Guidance for Evaluating the Vapor Intrusion to Indoor Air Pathway from Groundwater and Soils. While this does not indicate that a vapor intrusion problem will occur if a building(s) is erected in the future at the now vacant property at 720-732 Grand Street, it does indicate that further evaluation or engineering controls may be necessary when and if structures are erected at the property. To ensure that future owners of 720-732 Grand Street are aware of the exceedence of the screening levels, EPA has recorded a notice with the County Clerk's office for Hudson County advising of this fact. The notice also advises of the final cleanup levels of mercury met at the Site.

Operation and Maintenance

There will be no operation and maintenance plan in place since all remedial actions have been completed at the Site.

Five-Year Review

Upon completion of the remedial activities, hazardous substances do not remain on-site above levels that would prevent unlimited use without restriction. It is the policy of EPA to conduct five year reviews when remedial activities, including monitoring, will continue for more than five years. All cleanup goals have been met for this Site, and there is no action warranted for the groundwater underlying the Site as documented in the September 16, 2005 ESD.

However, because the property is vacant, EPA cannot rule out the possibility that the slight exceedences of screening levels established by EPA's Draft Guidance for Evaluating the Vapor Intrusion to Indoor Air Pathway from Groundwater and Soils are indicative of the potential for vapor intrusion. The Site has been sold and title has been transferred to a private entity for redevelopment and reuse. The nature of the future use of the Site is unknown at this time and may eliminate any potential for vapor intrusion. Therefore, prior to the time that a five year review would be conducted (five years after the construction completion date of 2005), EPA will evaluate conditions at the Site, and if necessary and appropriate, will conduct a five year review.

Community Involvement

Public participation activities for the Grand Street Mercury Superfund Site have been satisfied as required in CERCLA Section 113(k), 42 U.S.C. 9613(k), and Section 117, 42 U.S.C. 9617. EPA published a Community Relations Plan in July 1997. The ROD was subject to a public review process; public comments were received and addressed in the Responsiveness Summary portion of the ROD. All other documents and information which EPA relied on or considered in recommending that the Site be deleted from the NPL are available for the public to review EPA Records Center.

Applicable Deletion Criteria/Statute Concurrence

All the completion requirements for this Site have been met as described in the Final Remedial Action Report dated August 2005, prepared by GE and approved by EPA on August 30, 2005, and EPA's Preliminary Close Out Report dated September 2005. The State of New Jersey, in its letter of August 30, 2006 concurred on the proposed deletion of this Site from the NPL. Consequently, EPA is proposing deletion of this Site from the NPL. Documents supporting this action are available in the site files.

The NCP specifies that EPA may delete a site from the NPL if “all appropriate Fund-financed response under CERCLA has been implemented, and no further response action by responsible parties is appropriate.” 40 CFR 300.425(e)(1)(ii). EPA, with the concurrence of the State of New Jersey, through the Department of Environmental Protection, believes that this criterion for deletion has been met. Consequently, EPA is proposing deletion of this Site from the NPL.

Dated: April 12, 2007.
Alan J. Steinberg,
Regional Administrator, Region 2.

[FR Doc. E7-12450 Filed 6-27-07; 8:45 am]

BILLING CODE 6560-50-P